DEPARTMENT OF STATE

22 CFR Part 122

[Public Notice 6353]

Amendment to the International Traffic in Arms Regulations: Correction

AGENCY: Department of State.

ACTION: Correction of final rule.

SUMMARY: This document makes a correction to the RIN stated in the final rule published on July 18, 2008 (73 FR 41258) pertaining to “Renewal of Registration.” RIN 1400-AC50 should be RIN 1400-AC51.

DATES: Effective Date: September 10, 2008.

FOR FURTHER INFORMATION CONTACT: Mary Sweeney, Office of Defense Trade Controls Policy, Bureau of Political-Military Affairs, Department of State, (202) 663-2865.

SUPPLEMENTARY INFORMATION: The Department of State published a final rule (Public Notice 6300) in the Federal Register of July 18, 2008, amending Part 122 of the International Traffic in Arms Regulations.

In rule FR Doc. E8-16537 published on July 18, 2008 (73 FR 41258), make the following correction.

1. On page 41258, second column, “RIN 1400-AC50” should read “RIN 1400-AC51.”

Dated: September 4, 2008.
Robert S. Kovac,
Managing Director, Directorate of Defense Trade Controls, Department of State.

[FR Doc. E8-21018 Filed 9-9-08; 8:45 am]

BILLING CODE 4710-25-P